FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012155-001.

Title: MSC/Zim South America East Coast Vessel Sharing Agreement.

Parties: Mediterranean Shipping Co. S.A. and Zim Integrated Shipping Services Ltd.

Filing Party: Wayne R. Rohde, Esq.; Cozen O'Connor; 1627 I Street NW., Suite 1100; Washington, DC 20006-4007.

Synopsis: The amendment revises the geographic scope of the Agreement by adding Mexico and deleting Panama. It also revises the number and capacity of vessels to be operated by the parties, adjusts the space allocations accordingly, and revises the space charter arrangement between the parties. It also updates the address of MSC and restates the Agreement.

Agreement No.: 012184-000.

Title: Crowley/Maersk Line Panama-U.S. Space Charter Agreement.

Parties: Crowley Latin America Services, LLC and A.P. Moller-Maersk A/S

Filing Party: Wayne R. Rohde, Esq.; Cozen O'Connor; 1627 I Street NW., Suite 1100; Washington, DC 20006-4007.

Synopsis: The agreement authorizes Crowley to charter space to Maersk Line in the trade from Panama to the U.S. Atlantic Coast.

By Order of the Federal Maritime Commission.
Dated: October 5, 2012.
Karen V. Gregory,
Secretary.

[FR Doc. 2012-25044 Filed 10-10-12; 8:45 am]

BILLING CODE 6730-01-P